DEPARTMENT OF HEALTH AND HUMAN SERVICES

Health Resources and Services Administration

Part C Early Intervention Services Grant

AGENCY: Health Resources and Services Administration, HHS.

ACTION: Notice of non-competitive program expansion supplemental award.

SUMMARY: The Health Resources and Services Administration (HRSA) will be providing temporary critical HIV medical care and treatment services through the Greenwood Leflore Hospital (GLH) Magnolia Medical Clinic to avoid a disruption of HIV clinical care to clients in Bolivar, Sunflower and Washington Counties in Mississippi.

SUPPLEMENTARY INFORMATION: Intended recipient of the award: GLH Magnolia Medical Clinic, Greenwood, Mississippi.

Amount of the Award: $73,125 to ensure ongoing clinical services to the target population.

Authority: Section 2651 of the Public Health Service Act, 42 U.S.C. 300ff-51.

CFDA Number: 93.918.

Period of Support: The period of supplemental support is from April 1, 2009 to June 30, 2009.

Justification for the Exception to Competition:

Critical funding for HIV medical care and treatment services to clients in Bolivar, Sunflower and Washington Counties in Mississippi will be continued through a non-competitive program expansion supplement to an existing grant award to the GLH Magnolia Medical Clinic in Greenwood, Mississippi. This is a temporary award because the previous grant recipient serving this population notified HRSA that it would not continue in the program. GLH Magnolia Medical clinic is the best qualified grantee for this supplement since it serves many of the former grantee's patients and is the closest Part C Ryan White HIV/AIDS Program to the former grantee. Further funding beyond June 30, 2009 for this service area will be competitively awarded during the next Part C HIV Early Intervention Service competing application process for FY 2009.

FOR FURTHER INFORMATION CONTACT: Kathleen Treat, via email ktreat@hrsa.gov, or via telephone, 301-443-0493.

Dated: February 22, 2009.
Elizabeth M. Duke,
Administrator.

[FR Doc. E9-4277 Filed 2-27-09; 8:45 am]

BILLING CODE 4165-15-P